DEPARTMENT OF THE INTERIOR

Bureau of Land Management

43 CFR Part 3000

[WO-310-1310-PP-24 1A]

RIN 1004-AE01

Minerals Management: Adjustment of Cost Recovery Fees

Correction

In rule document E8-22255 beginning on page 54717 in the issue of Tuesday, September 23, 2008 make the following correction:

§3000.12 [Corrected]

On page 54720, in §3000.12(a), in the third column, in the FY 2009 Processing and Filing Fee Table, in the second column, in the 18th entry, “10” should read “105”.

[FR Doc. Z8-22255 Filed 2-12-09; 8:45 am]

BILLING CODE 1505-01-D